DEPARTMENT OF TRANSPORTATION

Federal Aviation Administration

Notice of Intent To Rule on Request To Release Airport Land at the Safford Municipal Airport, Safford, Arizona From Certain Restrictions Contained in the Patent Dated April 3, 1956

AGENCY: Federal Aviation Administration (FAA), DOT.

ACTION: Notice of intent to rule on request to release airport land from certain restrictions contained in the Patent No. 1158979 dated April 3, 1956.

SUMMARY: The FAA proposes to rule and invites public comment on the release of approximately 183.30 acres of land at the Safford Municipal Airport, Safford, Arizona, from certain restrictions contained in the Patent dated April 3, 1956. The purpose of the release is to permit the use of approximately 183.30 acres of airport property to be developed for non-aeronautical purposes, but remain dedicated airport land.

DATES: Comments must be received on or before January 4, 2002.

ADDRESSES: Comments on this application may be mailed or delivered in triplicate to the FAA at the following address: Federal Aviation Administration, Airports Division, P.O. Box 92007, Los Angeles, CA 90009. In addition, one copy of any comments submitted to the FAA must be mailed or delivered to Mr. Ronald Jacobson, City Manager, City of Safford, P.O. Box 272 Safford, AZ 85548-0272.

FOR FURTHER INFORMATION CONTACT: Mr. Kevin Flynn, Supervisor, Arizona Standards Section, Airports Division, AWP-623, P.O. Box 92007, Los Angeles, CA 90009, Telephone: (310) 725-3632. Arrangements may be made with Mr. Flynn to review the request to release the subject airport property from certain obligations in person at the FAA Western-Pacific Regional office, 15000 Aviation Blvd., Hawthorne, CA 90250.

SUPPLEMENTARY INFORMATION: On April 5, 2000, new authorizing legislation became effective. That bill, the Wendell H. Ford Aviation Investment and Reform Act for the 21st Century (AIR 21), Public Law 10-181 (Apr. 5, 2000; 114 Stat. 61), requires that a 30-day public notice must be provided before the Secretary may waive any condition imposed on an interest in surplus property.

The following is a brief overview of the request:

On April 3, 1956, the United States Department of Interior, acting under the authority of section 16 of the Federal Airport Act of 1946, granted patent No. 1158979 to the Town of Safford, Arizona for 692.66 acres to be developed as a public use airport. The City of Safford has requested the release of approximately 183.30 acres of dedicated airport land at the Safford Municipal Airport, Safford Arizona from certain restrictions contained in the Patent dated April 3, 1956. The purpose of the release is to permit the use of dedicated airport property for non-aeronautical purposes. Net proceeds from the leasing and development of the subject land will be utilized by the city for capital improvements, operation, and maintenance at the Safford Municipal Airport.

Issued in Hawthorne, California, on November 15, 2001.
Herman C. Bliss,
Manager, Airports Division, Western-Pacific Region.

[FR Doc. 01-30133 Filed 12-4-01; 8:45 am]

BILLING CODE 4910-13-M